DEPARTMENT OF COMMERCE

National Oceanic and Atmospheric Administration

RIN 0648-XC786

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Northeast Region, NMFS (Assistant Administrator), has made a preliminary determination that an Exempted Fishing Permit Application contains all the required information and warrants further consideration. This Exempted Fishing Permit would exempt participating commercial fishing vessels from the escape vent, trap limits, and trap tag requirements of the Federal lobster regulations in order to help determine the abundance and distribution of juvenile American lobsters at the Massachusetts and Rhode Island offshore wind farm area. The research is being conducted by the Commercial Fisheries Research Foundation.

Regulations under the Magnuson-Stevens Fishery Conservation and Management Act require publication of this notification to provide interested parties the opportunity to comment on applications for proposed Exempted Fishing Permits.

DATES: Comments must be received on or before August 19, 2013.

ADDRESSES: You may submit written comments by any of the following methods:

• Email: NERO.EFP@noaa.gov. Include in the subject line “Comments on CFRF Lobster EFP.”

• Mail: John K. Bullard, Regional Administrator, NMFS, NE Regional Office, 55 Great Republic Drive, Gloucester, MA 01930. Mark the outside of the envelope “Comments on CFRF Lobster EFP.”

• Fax: (978) 281-9135.

FOR FURTHER INFORMATION CONTACT: Maria Jacob, Environmental Technician, 978-281-9180.

SUPPLEMENTARY INFORMATION: The Commercial Fisheries Research Foundation (CFRF) submitted a complete application for an Exempted Fishing Permit on June 24, 2013. To conduct its research on the abundance and distribution of juvenile American lobster in Lobster Management Area (LMA) 2, the CFRF is requesting exemptions from the following Federal lobster regulations: (1) Gear specifications to allow for closed escape vents, as prohibited in 50 CFR 697.21(c)(2); (2) trap limits to be exceeded by 80 additional traps per fishing vessel, for a total of 240 additional traps, as prohibited in § 697.19(a)(2) for LMA 2; and (3) trap tag requirements, as specified in § 697.19(f). Escape vents are designed to allow smaller, sublegal-sized lobsters to escape standard lobster traps; therefore, closed escape vents are necessary to target juvenile American lobsters and collect information on their abundance and distribution. Federal lobster regulations also limit the number of traps that each permit holder can fish, which is based on their permit qualification. Therefore, each participating vessel would need exemptions in order to fish the survey traps in excess of their trap allocation. The wind farm development area includes 24 lease blocks, and sampling would take place with 1 trawl of 10 traps per lease block, requiring 24 trawls of 10 traps (240 traps), or 80 traps per vessel. Federal lobster regulations also require a trap tag to be fixed to each active lobster trap; however, the survey traps will remain separate from each vessel's commercial fishing traps, and would be hauled during sampling trips only. Therefore, there is no need to have these survey traps fixed with the conventional lobster trap tags. Instead, there would be identification tags fixed to each trap for identification purposes.

Funding for this pilot study would be provided through the Bureau of Ocean Energy Management. The proposed lobster sampling would take place outside of regular fishing activity, with one or two scientist(s) from the University of Rhode Island onboard each vessel. Gear would be set for a 5-day soak during regular commercial fishing trips, without a scientist onboard; however, no sampling would take place when survey gear is being set. If an EFP is granted, there would be an additional 240 modified traps in the water for 6 consecutive months (May through October), and for a 2-year study period. Each participating vessel would have eight trawls with 10 traps per trawl, consisting of 6 vent-less traps and 4 standard traps per trawl, for a total of 48 modified traps and 32 standard traps for each vessel, to be hauled after a 5-night soak. The addition of 144 modified traps and 96 standard traps in total for all three vessels would increase the total number of traps in the fishery by 240 traps, a negligible number when compared to the current number of lobster traps deployed in the fishery.

Modifications to a conventional lobster trap would include a closed escape vent, a smaller mesh size, and a smaller entrance head. All lobsters retrieved from standard and modified traps would remain onboard for a short period of time to allow for sampling, after which they would be returned to the water.

Biological information would be collected on all lobsters, including: Carapace length; sexual determination; cull status; and presence of eggs, v-notches, and shell disease. Bycatch species would also be kept onboard for enumeration, weight collection, and measurement.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: July 30, 2013.
Emily H. Menashes,
Deputy Director, Office of Sustainable Fisheries, National Marine Fisheries Service.

[FR Doc. 2013-18656 Filed 8-1-13; 8:45 am]

BILLING CODE 3510-22-P